DEPARTMENT OF TRANSPORTATION

Federal Aviation Administration

14 CFR Part 39

[Docket No. FAA-2005-20251; Directorate Identifier 2004-NM-164-AD]

RIN 2120-AA64

Airworthiness Directives; Raytheon Model Hawker 800XP Airplanes

AGENCY: Federal Aviation Administration (FAA), Department of Transportation (DOT).

ACTION: Notice of proposed rulemaking (NPRM).

SUMMARY: The FAA proposes to adopt a new airworthiness directive (AD) for certain Raytheon Model Hawker 800XP airplanes. This proposed AD would require inspecting to detect damage of certain wiring in the flight compartment, performing corrective actions if necessary, modifying certain wiring connections, and revising the airplane flight manual. This proposed AD is prompted by reports of miswiring in the power distribution system. We are proposing this AD to ensure that the flightcrew is aware of the source of battery power for certain equipment, and to prevent damage to wiring and surrounding equipment that could result in smoke or fire on the airplane.

DATES: We must receive comments on this proposed AD by March 21, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Raytheon Aircraft Company, Department 62, P.O. Box 85, Wichita, Kansas 67201-0085.

You can examine the contents of this AD docket on the Internet at http://dms.dot.gov, or in person at the Docket Management Facility, U.S. Department of Transportation, 400 Seventh Street SW., Room PL-401, on the plaza level of the Nassif Building, Washington, DC. This docket number is FAA-2005-20251; the directorate identifier for this docket is 2004-NM-164-AD.

FOR FURTHER INFORMATION CONTACT: Philip Petty, Aerospace Engineer, Electrical Systems and Avionics, ACE-119W, FAA, Wichita Aircraft Certification Office, 1801 Airport Road, Room 100, Mid-Continent Airport, Wichita, Kansas 67209; telephone (316) 946-4139; fax (316) 946-4107.

SUPPLEMENTARY INFORMATION:

Comments Invited

We invite you to submit any relevant written data, views, or arguments regarding this proposed AD. Send your comments to an address listed under ADDRESSES. Include “Docket No. FAA-2005-20251; Directorate Identifier 2004-NM-164-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received a report indicating that miswiring in the flight compartment has been found on Raytheon Model Hawker 800XP airplanes. In one case, this miswiring affects the radio emergency switch, which is intended to ensure that the flightcrew is able to use navigation and communication radios when the airplane batteries are depleted during an electrical emergency. However, activating the radio emergency switch under normal aircraft operating conditions links the 35-amp essential radio bus and the radio emergency bus, which results in several wires being connected to the 35-amp essential radio bus without protection by circuit breakers or fuses. If one of these wires were to short to ground or be exposed to excessive current flow, wires, connectors, relays, or surrounding circuits or equipment may be damaged. Operating the radio emergency switch in accordance with the Emergency Procedures section of the airplane flight manual (AFM) will not cause the condition. In another case, miswiring has resulted in battery no. 3 supplying power to equipment that the Emergency Procedures section of the AFM identifies as being supplied by battery no. 4 and vice versa. These conditions, if not corrected, could cause the flightcrew to be misled about the source of battery power for certain equipment, or could lead to damage to wiring and surrounding equipment that could result in smoke or fire on the airplane.

Relevant Service Information

We have reviewed Raytheon Service Bulletin 24-3555, Revision 1, dated June 2004. Part 1 of the service bulletin describes procedures for visually inspecting for damage (primarily, but not limited to, evidence of heat damage) of wiring in the flight compartment. If any damage is found, corrective actions include performing repairs, or replacing damaged wiring with new wiring and replacing, with new parts, any relays or connectors from which damaged wiring extends. Part 2 of the service bulletin describes procedures for modifying certain wiring connections in the flight compartment, which includes replacing a certain circuitbreaker switch with an improved part, installing new busbars, and replacing a certain circuitbreaker with an improved part.

The service bulletin also specifies revising the Emergency Procedures section of the AFM to include a certain temporary change. We have reviewed Raytheon Hawker 800XP Temporary Change 140-590032-0005TC7, dated June 3, 2003, which is intended to inform the flightcrew which standby batteries provide power to what equipment once the actions in Raytheon Service Bulletin 24-3555, Revision 1, have been done.

Accomplishing the actions specified in Raytheon Service Bulletin 24-3555, Revision 1, is intended to adequately address the unsafe condition.

FAA's Determination and Requirements of the Proposed AD

We have evaluated all pertinent information and identified an unsafe condition that is likely to exist or develop on other airplanes of this same type design. Therefore, we are proposing this AD, which would require accomplishing the actions specified in the service information described previously, except as discussed under “Differences Between the Proposed AD and Service Information.”

Clarification of Inspection Type

Raytheon Service Bulletin 24-3555, Revision 1, specifies visually inspecting for damage of certain wiring in the flight compartment. We find that the procedures described in the service bulletin constitute a detailed inspection. Note 1 of this proposed AD defines what we mean by “detailed inspection.”

Differences Between the Proposed AD and Service Information

Where Raytheon Service Bulletin 24-3555, Revision 1, specifies contacting the manufacturer for information on certain actions, this proposed AD requires that, before further flight, you must contact the FAA. Then, before further flight, any applicable action specified by the FAA must be accomplished in accordance with a method approved by the FAA.

Raytheon Service Bulletin 24-3555, Revision 1, specifies that, on certain airplanes equipped with Airshow Cabin Display, the actions in Raytheon Service Bulletin 24-3664 must be done concurrently with or subsequent to the actions in Part 2 of Raytheon Service Bulletin 24-3555, Revision 1. We have determined that it is not necessary for this proposed AD to require accomplishing Raytheon Service Bulletin 24-3664. It is possible to do all of the applicable actions in Raytheon Service Bulletin 24-3555, Revision 1, without first doing the actions in Raytheon Service Bulletin 24-3664.

Although the Accomplishment Instructions of Raytheon Service Bulletin 24-3555, Revision 1, describe procedures for reporting compliance with the service bulletin, this proposed AD would not require that action.

Costs of Compliance

There are about 45 airplanes of the affected design in the worldwide fleet. The following table provides the estimated costs for U.S. operators to comply with this proposed AD.

Estimated Costs
Action | Work hours | Average labor rate per hour | Parts | Cost per airplane | Number of U.S.-registered airplanes | Fleet cost
Inspection | 18 | $65 | None | $1,170 | 30 | $35,100
Modification | 6 | 65 | $435 | 825 | 30 | 24,750

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. FAA-2005-20251; Directorate Identifier 2004-NM-164-AD.

Comments Due Date

(a) The Federal Aviation Administration (FAA) must receive comments on this AD action by March 21, 2005.

Affected ADs

(b) None.

Applicability

(c) This AD applies to Raytheon Model Hawker 800XP airplanes, certificated in any category, serial numbers 258541, 258556, and 258567 through 258608 inclusive.

Unsafe Condition

(d) This AD was prompted by reports of miswiring in the power distribution system. We are issuing this AD to ensure that the flightcrew is aware of the source of battery power for certain equipment, and to prevent damage to wiring and surrounding equipment that could result in smoke or fire on the airplane.

Compliance

(e) You are responsible for having the actions required by this AD performed within the compliance times specified, unless the actions have already been done.

Service Information Reference

(f) The term “service bulletin,” as used in this AD, means Raytheon Service Bulletin 24-3555, Revision 1, dated June 2004.

(1) Where the service bulletin specifies contacting the manufacturer for information, this proposed AD requires, before further flight, contacting the Manager, Wichita Aircraft Certification Office (ACO), FAA. Then, before further flight, any applicable action specified by the Manager, Wichita ACO, must be accomplished in accordance with a method approved by the Manager, Wichita ACO.

(2) The service bulletin also refers to Raytheon Hawker 800XP Temporary Change 140-590032-0005TC7, dated June 3, 2003, which is intended to be inserted into the Emergency Procedures section of the airplane flight manual to inform the flightcrew which standby batteries provide power to what equipment once the actions in the service bulletin have been done.

(3) Where the service bulletin specifies to report compliance information to the manufacturer, this AD does not include that requirement.

Inspection

(g) Within 50 flight hours or 30 days after the effective date of this AD, whichever is first: Perform a detailed inspection for damage (primarily but not limited to evidence of heat damage) of wiring in the flight compartment, and all applicable corrective actions, by doing all actions in part 1 of the Accomplishment Instructions of the service bulletin, except as provided by paragraphs (f)(1) and (f)(3) of this AD. Any applicable corrective action must be done before further flight.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Modification

(h) At the applicable time specified in paragraph (h)(1) or (h)(2) of this AD, modify wiring in the flight compartment by doing all actions in accordance with part 2 of the Accomplishment Instructions of the service bulletin. Following accomplishment of the actions in part 2 of the service bulletin, before further flight, do all actions associated with the functional test, including revising the Emergency Procedures section of the Raytheon Hawker 800XP Airplane Flight Manual to include the information in Temporary Change Part Number 140-590032-0005TC7, in accordance with the Accomplishment Instructions of the service bulletin.

(1) If no damage was found during the inspection required by paragraph (g) of this AD: Do paragraph (h) within 300 flight hours or 180 days after the effective date of this AD, whichever is first.

(2) If any damage is found during the inspection required by paragraph (g) of this AD: Do paragraph (h) before further flight after the damage is found.

Alternative Methods of Compliance (AMOCs)

(i) The Manager, Wichita ACO, has the authority to approve AMOCs for this AD, if requested in accordance with the procedures found in 14 CFR 39.19.

Issued in Renton, Washington, on January 26, 2005.
Ali Bahrami,
Manager, Transport Airplane Directorate, Aircraft Certification Service.

[FR Doc. 05-1925 Filed 2-1-05; 8:45 am]

BILLING CODE 4910-13-P